DEPARTMENT OF ENERGY

Federal Energy Regulatory Commission

[Docket No. CP05-54-000]

Wyoming Interstate Company, Ltd.; Notice of Application

February 2, 2005.

Take notice that on January 24, 2005, Wyoming Interstate Company, Ltd. (WIC), Post Office Box 1087, Colorado Springs, Colorado 80944, filed in the above referenced docket an application pursuant to section 7(c) of the Natural Gas Act (NGA), and Part 157 of the Commission's regulations for an order granting a certificate of public convenience to construct and operate its Piceance Basin Expansion Project consisting of pipeline and compression facilities in Colorado and Wyoming, all as more fully set forth in the application which is on file with the Commission and open to public inspection. The filing may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

Specifically, WIC proposes to construct, and operate approximately 141.7 miles of 24-inch diameter pipeline extending from the Greasewood Hub in Rio Blanco County, Colorado through Moffat County, Colorado and terminating at interconnects with WIC's mainline and the interstate pipeline facilities of Colorado Interstate Gas Company (CIG) at Wamsutter in Sweetwater County, Wyoming. WIC also proposes to install a 1,650 site-rate horsepower compressor unit at the beginning of the proposed pipeline at the Greasewood Hub. In addition, WIC proposes interconnects with a gathering system and the interstate pipeline facilities of TransColorado Gas Transmission at the Greasewood Hub and an interconnection with CIG at Wamsutter. WIC states that the proposed facilities will have a capacity of 350,000 dth per day and estimates that the proposed facilities will cost $120,200,000. WIC proposes an incremental rate for service on the facilities. Any questions concerning this application may be directed to Robert T. Tomlinson, Director, Regulatory Affairs, Wyoming Interstate Company, Ltd., P.O. Box 1087, Colorado Springs, Colorado 80944 at (719) 520-3788 or by fax at (719) 667-7534 or Craig V. Richardson, Vice President and General Counsel, Wyoming Interstate Company, Ltd., P.O. Box 1087, Colorado Springs, Colorado 80944 at (719) 520-4929 or by fax at (719) 520-4898.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commenters will be placed on the Commission's environmental mailing list, will receive copies of the environmental documents, and will be notified of meetings associated with the Commission's environmental review process. Environmental commenters will not be required to serve copies of filed documents on all other parties. The Commission's rules require that persons filing comments in opposition to the project provide copies of their protests only to the applicant. However, the non-party commenters will not receive copies of all documents filed by other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (http://www.ferc.gov) under the “e-Filing” link.

Comment Date: February 23, 2005.

Magalie R. Salas,
Secretary.

[FR Doc. E5-526 Filed 2-8-05; 8:45 am]

BILLING CODE 6717-01-P